DEPARTMENT OF TRANSPORTATION

Federal Motor Carrier Safety Administration

49 CFR Chapter III

[Docket No. FMCSA-2018-0037]

Federal Motor Carrier Safety Regulations (FMCSRs) Which May Be a Barrier to the Safe Integration of Automated Driving Systems in Commercial Vehicle Operations; Public Meeting

AGENCY: Federal Motor Carrier Safety Administration (FMCSA), DOT.

ACTION: Announcement of public listening session.

SUMMARY: FMCSA announces a public listening session on Friday, August 24, 2018, to solicit information on issues relating to the design, development, testing, and integration of automated driving systems (ADS) equipped commercial motor vehicles (CMVs) on our Nation's roadways. The listening session is the third in a series held in 2018 with the first occurring on June 19 in Ann Arbor, MI, and the second occurring on July 12 in San Francisco, CA. The meeting will provide interested parties an opportunity to share their views on the FMCSRs as they relate to the development and safe integration of ADS. Attendees are also encouraged to share any data or analysis on this topic with Agency representatives.

DATES: The meeting will be held on Friday, August 24, 2018, from 1-2:30 p.m. Central Daylight Time (CDT) at the Great American Trucking Show (GATS), Kay Bailey Hutchison Convention Center, 650 S Griffin Street, Dallas, TX 75202. If all interested participants have had an opportunity to comment, the session may conclude early.

FOR FURTHER INFORMATION CONTACT: Ms. Shannon L. Watson, Senior Advisor to the Associate Administrator for Policy, Federal Motor Carrier Safety Administration, U.S. Department of Transportation, 1200 New Jersey Avenue SE, Washington, DC 20590, at (202) 385-2395, or via email: shannon.watson@dot.gov.

SUPPLEMENTARY INFORMATION:

Background

On September 12, 2017, the Department published the Automated Driving Systems (ADS): A Vision for Safety 2.0. (Publication No. DOT HS 812 442) (the Voluntary Guidance). The Voluntary Guidance offers a path forward for the safe integration of automated vehicles by:

• Encouraging new entrants and ideas that deliver safer vehicles;

• Making the Departmental regulatory processes nimbler to help match the pace of private sector innovation; and

• Supporting industry innovation and encouraging open communication with the public and with stakeholders.

The Voluntary Guidance is rooted in the Department's view that ADS-equipped vehicles hold enormous potential benefits for safety, mobility, and the efficiency of our transportation system. The primary focus of the Voluntary Guidance is on levels of ADS that can take full control of the driving tasks in at least some circumstances. Portions of the Voluntary Guidance also apply to lower levels of automation, including some of the driver assistance systems already being deployed by automakers today. The full document can be found at: https://www.nhtsa.gov/sites/nhtsa.dot.gov/files/documents/13069a-ads2.0_090617_v9a_tag.pdf.

The Voluntary Guidance adopts the SAE International (SAE) J3016 standard's definitions for levels of automation. The SAE definitions divide vehicles into levels based on “who does what, when.” Generally:

• SAE Level 0, No Driving Automation; the driver performs all driving tasks.

• SAE Level 1, Driver Assistance; the vehicle is controlled by the driver, but some driving assist features may be included in the vehicle design.

• SAE Level 2, Partial Driving Automation; the vehicle has combined automated functions, like acceleration and steering, but the driver must remain engaged with the driving task and monitor the environment at all times.

• SAE Level 3, Conditional Driving Automation; the driver is a necessity, but is not required to monitor the environment. The driver must be ready to take control of the vehicle at all times with notice.

• SAE Level 4, High Driving Automation; the vehicle is capable of performing all driving functions under certain conditions. The driver may have the option to control the vehicle.

• SAE Level 5, Full Driving Automation: the vehicle is capable of performing all driving functions under all conditions.

Using the SAE levels described above, the Department draws a distinction between Levels 0-2 and 3-5 based on whether the human driver or the automated system is primarily responsible for monitoring the driving environment. For the purposes of this Federal Register notice, the Agency's primary focus is SAE Levels 3-5 ADS.

FMCSA encourages the development of these advanced safety technologies for use on CMVs, and at the same time, recognizes the need to work with the States to ensure that, from an operations standpoint, all testing and use of these advanced safety systems is conducted in a manner that ensures the safe operation of ADS-equipped commercial vehicles.

FMCSA is responsible for the safety oversight of motor carriers operating CMVs in interstate commerce, the drivers of CMVs, and the vehicles. The Agency works with its State partners to deliver programs intended to prevent CMV crashes, and the associated injuries and fatalities.

The FMCSRs provide rules to ensure the safe operation of CMVs, as defined in 49 CFR 390.5, which includes vehicles with a gross vehicle weight/gross combination weight or gross vehicle weight rating/gross combination weight rating, whichever is greater, of 10,001 pounds or more; passenger-carrying vehicles designed or used to transport 9 to 15 passengers for direct compensation; passenger-carrying vehicles designed or used to transport 16 or more passengers; and any size vehicle transporting hazardous materials in a quantity requiring placards.

FMCSA's 2018 Request for Comments

On March 26, 2018, FMCSA published “Request for Comments Concerning Federal Motor Carrier Safety Regulations (FMCSRs) Which May Be a Barrier to the Safe Testing and Deployment of Automated Driving Systems-Equipped Commercial Motor Vehicles on Public Roads.” (83 FR 12933) The document solicited public comments on existing Federal Motor Carrier Safety Regulations (FMCSRs) that may need to be updated, modified, or eliminated to facilitate the safe introduction of automated driving systems (ADS) equipped commercial motor vehicles (CMVs) onto our Nation's roadways. The Agency indicated that it had commissioned the U.S. Department of Transportation's John A. Volpe National Transportation Systems Center (Volpe) to conduct a preliminary review of the FMCSRs to identify regulations that may relate to the development and safe introduction of ADS. The Agency requested comments on this report, including whether any of FMCSA's current safety regulations may hinder the testing and safe integration of ADS-equipped CMVs. Further, FMCSA requested comment on certain specific regulatory requirements that are likely to be affected by an increased integration of ADS-equipped CMVs.

In addition, to support FMCSA's effort to understand future impacts on the FMCSRs, FMCSA requested information, including from companies engaged in the design, development, testing, and integration of ADS-equipped CMVs into the fleet. Specifically, the Agency requested information about: (1) The scenarios and environments where entities expect that ADS will soon be tested and integrated into CMVs operating on public roads or in interstate commerce; (2) the operational design domains (ODD) in which these systems are being operated or would be tested and eventually deployed; and, (3) measures they believe are required to ensure the protection of any proprietary or confidential business information they intend to share with the Agency. The comment period ended on May 10, 2018. Interested parties may view the comments the Agency received at www.regulations.gov (docket number FMCSA-2018-0037).

Subsequent to the publication of the March 28 notice, FMCSA and other surface transportation agencies have begun planning for the initiation of rulemakings concerning ADS technology. The agencies have been assigned Regulation Identification Numbers (RINs) for their respective Advance Notices of Proposed Rulemakings (ANPRMs). To that end, the public listening session is intended to provide FMCSA the opportunity to engage stakeholders before the Agency begins drafting its ANPRM.

Meeting Participation

Oral comments from the public will be heard throughout the meeting. Members of the public may submit written comments to public docket referenced at the beginning of this notice using any of the following methods:

• Federal eRulemaking Portal: Go to http://www.regulations.gov. Follow the online instructions for submitting comments.

• Fax: 202-493-2251.

• Mail: Docket Management Facility; U.S. Department of Transportation, 1200 New Jersey Avenue SE, Room W12-140, Washington, DC 20590.

• Hand Delivery: U.S. Department of Transportation, 1200 New Jersey Avenue SE, West Building, Room W12-140, Washington, DC, between 9 a.m. and 5 p.m., E.T. Monday through Friday, except Federal holidays.

Issued on: August 17, 2018.
Cathy F. Gautreaux,
Deputy Administrator.

[FR Doc. 2018-18127 Filed 8-21-18; 8:45 am]

BILLING CODE 4910-EX-P